DEPARTMENT OF DEFENSE

Office of the Department of the Navy

Board of Advisors to the Presidents of the Naval Postgraduate School and the Naval War College; Notice of Federal Advisory Committee Meeting

AGENCY: Board of Advisors to the Presidents of the Naval Postgraduate School and the Naval War College, Department of the Navy, Department of Defense.

ACTION: Notice of Federal Advisory Committee meeting.

SUMMARY: The Department of Defense (DoD) is publishing this notice to announce that the following Federal Advisory Committee meeting of the Board of Advisors to the Presidents of the Naval Postgraduate School and the Naval War College, Board of Advisors (BOA) to The President of the Naval Postgraduate School (NPS) Subcommittee will take place.

DATES: Day 1—Open to the public, Wednesday, April 25, 2018 from 8:00 a.m. to 4:30 p.m. Day 2—Open to the public, Thursday, April 26, 2018 from 7:30 a.m. to 4:40 p.m. Pacific Time Zone.

ADDRESSES: The meeting will be held at the Naval Postgraduate School, Executive Briefing Center, Herrmann Hall, 1 University Circle, Monterey, CA.

FOR FURTHER INFORMATION CONTACT: Jacquelyn (Jaye) Panza, 831-656-2514 (Voice), 831-656-2789 (Facsimile), jpanza@nps.edu (Email). Mailing address is Naval Postgraduate School, 1 University Circle, Monterey, CA 93943-5001. Website: https://my.nps.edu/web/board-of-advisors/home. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the Board is to advise and assist the President, NPS, in educational and support areas, providing independent advice and recommendations on items such as, but not limited to, organizational management, curricula, methods of instruction, facilities, and other matters of interest.

Agenda: The agenda for Wednesday is as follows: 8:00 a.m.-8:30 a.m.: Welcome/Administrative Business, 8:30 a.m.-8:45 a.m.: Annual Ethics Update, 8:45 a.m.-9:45 a.m.: President's Update, 10:00 a.m.-11:00 a.m. :Provost's Update, 11:00 a.m.-11:45 a.m.: Meet with Faculty/Deans, 12:00 p.m.-1:00 p.m.: Meet with Students, 1:15 p.m.-2:30 p.m.: Campus Tour Classroom/Labs, 2:45 p.m.-3:45 p.m.: Board Discussion, 3:45 p.m.-4:30 p.m.: NPS Foundation Update. The agenda for Thursday is as follows: 7:30 a.m.-8:30 a.m.: Meet with faculty, 8:45 a.m.-9:45 a.m.: Professional Education Program Discussion, 10:00 a.m.-11:00 a.m.: Facilities Update, 11:15 a.m.-12:00 p.m.: Board Discussion, 12:00 p.m.-1:30 p.m.: Personal Time, 1:30 p.m.-4:30 p.m.: Board Discussion, 4:30 p.m. Meeting Adjourned.

Meeting Accessibility: The meeting is accessible to persons with disabilities.

Written Statements: For access, information, or to send written statements for consideration at the committee meeting contact Ms. Jaye Panza, Designated Federal Officer, Naval Postgraduate School, 1 University Circle, Monterey, CA 93943-5001 or by fax 831-656-2337 by April 20, 2018.

Dated: March 13, 2018.
E.K. Baldini,
Lieutenant Commander, Judge Advocate General's Coms, U.S. Navy, Federal Register Liaison Officer.

[FR Doc. 2018-05587 Filed 3-19-18; 8:45 am]

BILLING CODE 3810-FF-P